ENVIRONMENTAL PROTECTION AGENCY

40 CFR Part 52

[EPA-R04-OAR-2017-0174; FRL-9969-25—Region 4]

Air Plan Approval: Alabama; Transportation Conformity

AGENCY: Environmental Protection Agency (EPA).

ACTION: Withdrawal of direct final rule.

SUMMARY: Due to the receipt of an adverse comment, the Environmental Protection Agency (EPA) is withdrawing the August 17, 2017, direct final rule that approves an Alabama state implementation plan (SIP) revision related to transportation conformity requirements. EPA will address the comment in a subsequent final action based upon the proposed rulemaking action, also published on August 17, 2017. EPA will not institute a second comment period on this action.

DATES: The direct final rule published at 82 FR 30935, on August 17, 2017, is withdrawn effective October 12, 2017.

FOR FURTHER INFORMATION CONTACT: Kelly Sheckler, Air Regulatory Management Section, Air Planning and Implementation Branch, Air, Pesticides and Toxics Management Division, U.S. Environmental Protection Agency, Region 4, 61 Forsyth Street SW., Atlanta, Georgia 30303-8960. The telephone number is (404) 562-9222. Ms. Sheckler can also be reached via electronic mail at sheckler.kelly@epa.gov.

SUPPLEMENTARY INFORMATION: On August 17, 2017 (82 FR 39035), EPA published a direct final rule approving a SIP revision submitted by the State of Alabama, through the Alabama Department of Environmental Management. EPA took a direct final action to approve the portions of the May 8, 2013, submission that removes specific provisions of Alabama Administrative Code section 335-3-17-.01, “Transportation Conformity,” from the SIP that are no longer required.

In the direct final rule, EPA explained that the Agency was publishing the rule without prior proposal because the Agency viewed the submittal as a non-controversial SIP amendment and anticipated no adverse comments. Further, EPA explained that the Agency was publishing a separate document in the proposed rules section of the Federal Register to serve as the proposal to approve the SIP revision should an adverse comment be filed. EPA also noted that the rule would be effective generally 30 days after the close of the public comment period, without further notice unless the Agency received adverse comment by the close of the public comment period. EPA explained that if the Agency received such comments, then EPA would publish a document withdrawing the final rule and informing the public that the rule would not take effect. It was also explained that all public comments received would then be addressed in a subsequent final rule based on the proposed rule, and that EPA would not institute a second comment period on this action.

EPA received one adverse comment from a single Commenter on the aforementioned rule. As a result of the comment received, EPA is withdrawing the direct final rule approving the aforementioned changes to the Alabama SIPs. EPA will address the comment in a separate final action based on the proposed action also published on August 17, 2017 (82 FR 39078). EPA will not open a second comment period for this action.

List of Subjects in 40 CFR Part 52

Environmental protection, Air pollution control, Incorporation by reference, Intergovernmental relations, Particulate matter, Reporting and recordkeeping requirements.

Dated: September 29, 2017.
Onis “Trey” Glen, III
Regional Administrator, Region 4.

PART 52—APPROVAL AND PROMULGATION OF IMPLEMENTATION PLANS

Accordingly, the amendment to 40 CFR 52.50(c) published on August 17, 2017 (82 FR 39035), is withdrawn effective October 12, 2017.

[FR Doc. 2017-21931 Filed 10-11-17; 8:45 am]

BILLING CODE 6560-50-P